DEPARTMENT OF ENERGY

Federal Energy Regulatory Commission

[Docket No. RP01-56-000]

Transwestern Pipeline Company; Notice of Proposed Changes in FERC Gas Tariff

October 20, 2000.

Take notice that on October 17, 2000, Transwestern Pipeline Company (Transwestern) tendered for filing to become part of its FERC Gas Tariff, Second Revised Volume No. 1, the following tariff sheets to be effective December 1, 2000:

Fourth Revised Sheet No. 18

Seventeenth Revised Sheet No. 48

Original Sheet No. 98

Sheet No. 99

First Revised Sheet No. 157

Original Sheet No. 158

Transwestern states that the purpose of this filing is to provide Transwestern and its firm Shippers with the ability to enter into options to call on firm transportation capacity at a specified future date and options to terminate all or a portion of an existing service agreement at a specified future date.

Transwestern states that copies of the filing were served upon Transwestern's customers and interested State Commission.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web http://www.ferc.fed.us/online/rims.htm (call 202-208-2222 for assistance).

David P. Boergers,
Secretary.

[FR Doc. 00-27491 Filed 10-25-00; 8:45 am]

BILLING CODE 6717-01-M